DEPARTMENT OF ENERGY

Federal Energy Regulatory Commission

Combined Notice of Filings #2

Take notice that the Commission received the following electric corporate filings:

Docket Numbers: EC16-109-000.

Applicants: Nevada Power Company.

Description: Application of Nevada Power Company under Section 203 of the Federal Power Act.

Filed Date: 4/27/16.

Accession Number: 20160427-5354.

Comments Due: 5 p.m. ET 5/18/16.

Take notice that the Commission received the following electric rate filings:

Docket Numbers: ER16-1513-000.

Applicants: PJM Interconnection, L.L.C., Monongahela Power Company.

Description: Section 205(d) Rate Filing: Monongahela Power submits revisions to OATT Att H-11A and Revised SA No. 3513 to be effective 2/1/2016.

Filed Date: 4/28/16.

Accession Number: 20160428-5225.

Comments Due: 5 p.m. ET 5/19/16.

Docket Numbers: ER16-1514-000.

Applicants: PJM Interconnection, L.L.C., Monongahela Power Company.

Description: Section 205(d) Rate Filing: Monongahela Power submits revisions to OATT Att H-11A and Revised SA No. 3513 to be effective 2/1/2016.

Filed Date: 4/28/16.

Accession Number: 20160428-5226.

Comments Due: 5 p.m. ET 5/19/16.

Docket Numbers: ER16-1515-000.

Applicants: Midcontinent Independent System Operator, Inc.

Description: Request for Waiver of Midcontinent Independent System Operator, Inc.

Filed Date: 4/27/16.

Accession Number: 20160427-5348.

Comments Due: 5 p.m. ET 5/18/16.

Docket Numbers: ER16-1516-000.

Applicants: MidAmerican Energy Company.

Description: Section 205(d) Rate Filing: Interconnection Agr—Muscatine and ITC Midwest—Concurrence to be effective 6/6/2016.

Filed Date: 4/28/16.

Accession Number: 20160428-5294.

Comments Due: 5 p.m. ET 5/19/16.

Docket Numbers: ER16-1517-000.

Applicants: PJM Interconnection, L.L.C.

Description: Section 205(d) Rate Filing: Amendment to WMPA SA No. 3330, Queue No. X1-095 to be effective 7/2/2014.

Filed Date: 4/28/16.

Accession Number: 20160428-5310.

Comments Due: 5 p.m. ET 5/19/16.

Docket Numbers: ER16-1518-000.

Applicants: California Independent System Operator Corporation.

Description: Section 205(d) Rate Filing: 2016-04-28 EIM Year One Enhancements—Phase 2 to be effective 10/1/2016.

Filed Date: 4/28/16.

Accession Number: 20160428-5314.

Comments Due: 5 p.m. ET 5/19/16.

Docket Numbers: ER16-1519-000.

Applicants: PJM Interconnection, L.L.C.

Description: Section 205(d) Rate Filing: Service Agreement Nos. 4436, Queue Position T126, and 4437, Queue Position T127 to be effective 3/29/2016.

Filed Date: 4/28/16.

Accession Number: 20160428-5333.

Comments Due: 5 p.m. ET 5/19/16.

Docket Numbers: ER16-1520-000.

Applicants: PJM Interconnection, L.L.C.

Description: Section 205(d) Rate Filing: Revisions to OATT, OA & RAA to correct, clarify and clean-up various provisions to be effective 6/27/2016.

Filed Date: 4/28/16.

Accession Number: 20160428-5338.

Comments Due: 5 p.m. ET 5/19/16.

Docket Numbers: ER16-1521-000.

Applicants: PacifiCorp.

Description: Section 205(d) Rate Filing: WAPA Revised Spence/Thermopolis Agreements to be effective 6/28/2016.

Filed Date: 4/28/16.

Accession Number: 20160428-5345.

Comments Due: 5 p.m. ET 5/19/16.

Docket Numbers: ER16-1522-000.

Applicants: PacifiCorp.

Description: Tariff Cancellation: Termination of BPA General Transfer Agreement (East) to be effective 6/30/2016.

Filed Date: 4/28/16.

Accession Number: 20160428-5347.

Comments Due: 5 p.m. ET 5/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2016.
Kimberly D. Bose,
Secretary.

[FR Doc. 2016-10903 Filed 5-9-16; 8:45 am]

BILLING CODE 6717-01-P